DEPARTMENT OF HOUSING AND URBAN DEVELOPMENT

[Docket No. FR-5750-N-40]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202)- 720-8873; COE: Ms. Brenda John-Turner, Army Corps of Engineers, Real Estate, HQUSACE/CEMP-CR, 441 G Street NW., Washington, DC 20314; (202) 761-5222; Energy: Mr. David Steinau, Department of Energy, Office of Property Management, 1000 Independence Ave. SW., Washington, DC 20585 (202) 287-1503; GSA: Mr. Flavio Peres, General Services Administration, Office of Real Property Utilization and Disposal, 1800 F Street NW., Room 7040 Washington, DC 20405, (202) 501-0084; Interior: Mr. Michael Wright, Acquisition & Property Management, Department of the Interior, 3960 N. 56th Ave. #104, Hollywood, FL. 33021; (443) 223-4639; Navy: Mr. Steve Matteo, Department of the Navy, Asset Management Division, Naval Facilities Engineering Command, Washington Navy Yard, 1330 Patterson Ave. SW., Suite 1000, Washington, DC 20374; (202)685-9426 (These are not toll-free numbers).

Dated: September 25, 2014.
Brian P. Fitzmaurice,
Director, Division of Community Assistance, Office of Special Needs Assistance Programs.

TITLE V, FEDERAL SURPLUS PROPERTY PROGRAM Federal Register REPORT FOR 10/03/2014

Arkansas

Tract 12-113- Heibert Bernard House

102 Groinger Dr.

Hot Springs AR 71901

Landholding Agency: Interior

Property Number: 61201410004

Status: Excess

Directions: CORRECTION: This property was published in the Sept. 5 FR as suitable and available; however, HUD was notified that this property met the initial 60 day holding period and is now in the process of being demolished.

Comments: CORRECTION: This property is no longer available.

Suitable/Available Properties

Building

Colorado

Tucker Ponds Picnic Area Toilet, TKPDPATI

TKPDPATI/Rio Grande Nat'l Park

2.3 miles S on NFSR 390 from Intersection w/Hwy 160

South Fork CO 81154

Landholding Agency: Agriculture

Property Number: 15201430023

Status: Unutilized

Comments: Off-site removal; removal may cause bldg. to collapse; 52+ yrs. old; wood structure; human waste; habilitation longer than 14 days prohibited; contact Agriculture for more info.

Rio Grande National Forest Rd

Canyon Picnic Area/Boat Ramp Toilet 5001

5.2 Miles West on NFSR 520 from Intersection w/Hwy 160

Creede CO 81130

Landholding Agency: Agriculture

Property Number: 15201430024

Status: Unutilized

Comments: Off-site removal; removal may cause bldg. to collapse; 57+yrs. old; wood structure; holds human waste; contact Agriculture for more info.

Cross Creek CG Storage -

CRSCKCGTI/RIO Grande Nat'l Forest

6.2 Miles SW on NFSR 20 from Intersection W/Hwy 160

South Fork CO 81154

Landholding Agency: Agriculture

Property Number: 15201430025

Status: Unutilized

Comments: Off-site removal; removal may cause bldg. to collapse; 54+yrs. old; wood structure; holds human waste; habitation longer than 14 days prohibited; contact Agriculture for more Info.

Lower Beaver CG Toilet 3

LBEAVCGT3/Rio Grande Nat'l Forest

3 Miles SW on NFSR 20 from Intersection w/Hwy 160

South Fork CO 81154

Landholding Agency: Agriculture

Property Number: 15201430026

Status: Unutilized

Comments: Off-site removal; 53+yrs. old; wood structure; human waste; habitation beyond 14 days prohibited; contact Agriculture for more info.

Bristol View GS Pit Toilet #

1103 Rio Grande Nat'l Forest

3.5 Miles Won NFSR 520 from intersection w/Hwy 149

Creede CO 81130

Landholding Agency: Agriculture

Property Number: 15201430027

Status: Unutilized

Comments: Off-site removal; 79+ years old; wood structure; site has restricted access; contact Agriculture for more information.

Lower Beaver CG Toilet 2

#LBEAVCGT2 Rio Grande Nat'l Forest

3 Miles SW on NFSR 20 from intersection w/Hwy 160

South Fork CO 81154

Landholding Agency: Agriculture

Property Number: 15201430028

Status: Unutilized

Comments: Off-site removal; 53+ years old; wood structure; human waste; habitation beyond 14 days prohibited; contact Agriculture for more information.

Lobo Overlook Toilet

#LBOVLKT1/Rio Grande Nat'l Forest

Lobo Overlook 3 Miles Northerly of NFSR 402 from intersection w/Hwy 160

South Fork CO 81154

Landholding Agency: Agriculture

Property Number: 15201430029

Status: Unutilized

Comments: Off-site removal; 50+ years old; wood structure; human waste; habitation beyond 14 days prohibited; contact Agriculture for more information.

Michigan

Sleeping Bear Dunes National

Lakeshore-Carmichael House

6234 S. Dune Highway

Empire MI 49630

Landholding Agency: GSA

Property Number: 54201430013

Status: Excess

GSA Number: 1-I-MI-0702-AB

Comments: Off-site removal only; 2,253 sq.; 100+yrs.-old; average condition; wood structure type; lead-based paint; contact GSA for more information.

Pennsylvania

Tract 01-116, Ranger Residence

3440 National Pike (US Route 40)

Farmington PA 15437

Landholding Agency: Interior

Property Number: 61201430002

Status: Excess

Comments: Off-site removal; 1,740 sq.; 62+yrs.old; extensive deterioration; animal infestation; structural warping; lead-based paint; asbestos; accessible during bus. hrs.; contact Interior for more info.

Texas

Building Camper Service

Restroom

1901 Skyview Dr.

Wylie TX 75098

Landholding Agency: COE

Property Number: 31201430011

Status: Excess

Comments: Off-site removal; 38+years old; 576 sq.; located in a controlled area; removal may be difficult; contact COE for more information.

Land

California

San Lorenzo Lot

Between 15770 and 15794 Connolly Avenue

San Lorenzo CA 94580

Landholding Agency: GSA

Property Number: 54201430014

Status: Excess

GSA Number: 9-W-CA-1703-AA

Directions: Land holding agency; FAA; Disposal; GSA.

Comments: Approximately 0.116 acres; contact GSA for more information.

Unsuitable Properties

Building

California

Building 326

LLNL Site 200, On the SW quadrant off of

Second St.

Livermore CA 94550

Landholding Agency: Energy

Property Number: 41201430009

Status: Excess

Comments: Public access denied & no alternative w/out compromising Nat'l Sec.

Reasons: Secured Area

Building 444

LLNL Site 200, On the SE quadrant off of South Inner Loop

Livermore CA 94550

Landholding Agency: Energy

Property Number: 41201430010

Status: Excess

Comments: Public access denied & no alternative w/out compromising Nat'l Sec.

Reasons: Secured Area

Building 292

LLN Site 200, On the NW quadrant off of

Avenue B

Livermore CA 94550

Landholding Agency: Energy

Property Number: 41201430011

Status: Excess

Comments: Public access denied & no alternative w/out compromising Nat'l Sec.

Reasons: Secured Area

Building 856

LLNL Site 300, 4 mils SW of Interstate 580

on Corral Hollow Rd.

Tracy CA 95376

Landholding Agency: Energy

Property Number: 41201430012

Status: Excess

Comments: Public access denied & no alternative w/out compromising Nat'l Sec.

Reasons: Secured Area

Building 443

LLNL Site 200, On the SE quadrant off of South Inner Loop

Livermore CA 94550

Landholding Agency: Energy

Property Number: 41201430013

Status: Excess

Comments: Public access denied & no alternative w/out compromising Nat'l Sec.

Reasons: Secured Area

Building 60014; San Clemente Island

Naval Base Coronado; P.O. Box 357040

San Diego CA 92135-7040

Landholding Agency: Navy

Property Number: 77201430016

Status: Unutilized

Comments: Property located within an Airport runway clear zone.

Reasons: Within airport runway clear zone

Pennsylvania

Former Antenna Test Site

Philadelphia Navy Yard Annex

Philadelphia PA

Landholding Agency: Navy

Property Number: 77201430015

Status: Unutilized

Directions: Includes bldg. 1091 & approx. 0.595 acres parcel

Comments: Public access denied and no alters. W/out compromising nat'l sec.

Reasons: Secured Area

[FR Doc. 2014-23275 Filed 10-2-14; 8:45 am]

BILLING CODE 4210-67-P